MERIT SYSTEMS PROTECTION BOARD

Notice of Guidance Portal

AGENCY: Merit Systems Protection Board.

ACTION: Notice of availability.

SUMMARY: Pursuant to Executive Order 13891 and OMB Memorandum M-20-02, the Merit Systems Protection Board (MSPB) is noticing the March 3, 2020 launch of a single, searchable, indexed database containing all MSPB guidance documents currently in effect.

DATES: Applicable March 3, 2020.

ADDRESSES: www.mspb.gov/guidance.

FOR FURTHER INFORMATION CONTACT: Jennifer Everling, Acting Clerk of the Board, Merit Systems Protection Board, 1615 M Street NW, Washington, DC 20419; Phone: (202) 653-7200; Fax: (202) 653-7130; or email: mspb@mspb.gov.

SUPPLEMENTARY INFORMATION: Executive Order 13891 requires federal agencies to “establish or maintain on its website a single, searchable, indexed database that contains or links to all guidance documents in effect from such agency or component.” Executive Order 13891, 84 FR 55,235 (Oct. 9, 2019). OMB Memorandum M-20-02 further requires agencies to “send to the Federal Register a notice announcing the existence of the new guidance portal and explaining that all guidance documents remaining in effect are contained on the new guidance portal.” OMB Memorandum M-20-02 (Oct. 31, 2019).

In compliance with the above, MSPB is noticing the availability of a single, searchable, indexed database containing all MSPB guidance documents currently in effect, which may be accessed at www.mspb.gov/guidance on or after March 3, 2020.

(Authority: E.O. 13891, 84 FR 55,235; OMB Memorandum M-20-02.)

Jennifer Everling,
Acting Clerk of the Board.

[FR Doc. 2020-04862 Filed 3-9-20; 8:45 am]

BILLING CODE 7400-01-P